DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at alicia.broadus@samhsa.hhs.gov.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including the use of automated collection techniques or other forms of information technology.

Proposed Project: Programs To Reduce Underage Drinking—(OMB No. 0930-0316)—Revision

The Sober Truth on Preventing Underage Drinking Act (STOP Act) was passed by Congress in 2006, reauthorized in December 2016 as part of the 21st Century Cures Act (Pub. L. 114-255) and the Consolidated Appropriations Act, 2023 (Pub. L. 117-328), and codified into law in 42 U.S.C. 290bb-25b: Programs to reduce underage drinking. The STOP Act contains four primary elements:

1. The award of community-based coalition enhancement grants for underage drinking prevention activities to eligible entities currently receiving funds under the Drug-Free Communities Act of 1997.

2. A national adult-oriented media public service campaign to prevent underage drinking, “Talk. They Hear You.,” and an annual report to Congress evaluating the campaign.

3. An annual report to Congress summarizing federal prevention activities and the extent of progress in reducing underage drinking nationally, including data from national surveys conducted by federal agencies.

4. An annual report to Congress “on each State's performance in enacting, enforcing, and creating laws, regulations, and programs to prevent or reduce underage drinking.” The survey that is the subject of this request gathers data used to develop the state-by-state report on prevention and enforcement activities related to underage drinking.

Driven by the legislation and coordinated by the Interagency Coordinating Committee on the Prevention of Underage Drinking (ICCPUD), each of these activities work together to prevent and reduce underage drinking. ICCPUD provides national leadership in federal policy and programming to support state and community activities that prevent and reduce underage drinking. The data collection activities described in this package serve to assess the outputs and outcomes of public health messaging and interventions. The data collection activities outlined in this package are:

1. Survey of State Underage Drinking Prevention Policies, Programs, and Practices: An annual survey mandated by the STOP Act legislation sent to an individual designated by the governor of all 50 states and the mayor of the District of Columbia;

2. Policy Academy Evaluations: An assessment of participant capacity and workforce development through ICCPUD's Alcohol Policy Academy and SAMHSA's State and Community Policy Academy;

3. “Parents' Night Out” Evaluation: Tools for distribution of materials and evaluation of presenters and participants, including a solicitation of feedback from presenters, an assessment of changes in knowledge, skills, and confidence of parents and caregivers after receiving the training and materials for “Parents' Night Out” and “Talk. They Hear You.” products, as well as Focus Groups with Parents and Campaign Partners.;

4. “Talk. They Hear You.” Mobile App Surveys: A parent and caregiver survey and an app satisfaction survey. The parent survey will allow parents to provide their insight on campaign materials, general demographic information, and details on their conversations with youth regarding underage drinking and substance use. The satisfaction survey will assess perceptions of the app function and content to inform future “Talk. They Hear You.” campaign refinement.

5. “Talk. They Hear You.” Community Partner Surveys: A newsletter survey, a license survey, and a feedback survey. Each tool will be used to engage partners, disseminate materials, provide technical assistance, and receive feedback.

6. Screen4Success: A pre-screener, screener, and consent/assent survey on the Screen4Success website. The tool is designed to screen for health, wellness, and well-being concerns and connect participants to resources in their area.

Survey of State Underage Drinking Prevention Policies, Programs, and Practices

The STOP Act states that the “Secretary [of Health and Human Services] shall . . . annually issue a report on each state's performance in enacting, enforcing, and creating laws, regulations, and programs to prevent or reduce underage drinking.” The Secretary has delegated responsibility for this report to SAMHSA. Therefore, SAMHSA has developed a Survey of State Underage Drinking Prevention Policies, Programs, and Practices (the State Survey) to provide input for the state-by-state report on prevention and enforcement activities related to the underage drinking component of the annual Report to Congress on the Prevention and Reduction of Underage Drinking.

Congress' purpose in mandating the collection of data on state policies, programs, and practices through the State Survey is to provide policymakers and the public with otherwise unavailable but much needed information regarding state underage drinking prevention policies and programs. SAMHSA and other federal agencies that have underage drinking prevention as part of their mandate use the results of the State Survey to inform federal programmatic priorities, as do other stakeholders, including community organizations. The information gathered by the State Survey has established a resource for state agencies and the public for assessing policies and programs in their own state and for becoming familiar with the policies, programs, practices, and funding priorities of other states.

SAMHSA has determined that data on Categories #2 and #3 mandated in the STOP Act (as listed on page 2; enforcement and educational programs and programs targeting youth, parents, and caregivers) as well as states' collaborations with tribal governments, use of social marketing or counter-advertising campaigns, state-level interagency collaborations, and prevention workforce development activities are not available from secondary sources and therefore must be collected from the states themselves. The State Survey is therefore necessary to fulfill the Congressional mandate found in the STOP Act. Furthermore, the uniform collection of these data from the states over the last 15 years has created a valuable longitudinal dataset, and the State Survey's renewal is vital to maintaining this resource.

The State Survey is a single document that is divided into three sections: (1) enforcement of underage drinking laws; (2A) underage drinking prevention programs targeted to youth, families, parents, and caregivers, including data on the approximate number of persons served by these programs; (2B) state collaborations and best practices; (2C) interagency collaborations and state participation in social marketing media campaigns intended to reduce underage drinking; and (3) workforce development activities, including strategies and funds expended on recruiting and retaining a behavioral health workforce.

SAMHSA collects the required data using an online survey data collection platform. Links to the survey are distributed to states via email. The State Survey is sent to each state governor's office and the Office of the Mayor of the District of Columbia. SAMHSA provides both telephone and electronic technical support to state agency staff and emphasizes that the states are expected to provide data from existing state databases and other data sources available to them. The burden estimate below considers these assumptions.

The estimated annual response burden to collect this information is as follows:

Instrument | Number of respondents | Responses/ respondent | Total responses | Hours per response | Total hour burden | Wage rate | Total hour cost
State Survey | 51 | 1 | 51 | 18.5 | 943.50 | $28.07 | $26,484.05

Alcohol Policy Academy Evaluation

ICCPUD's Alcohol Policy Academy strives to reduce and prevent underage and excessive drinking by increasing the capacity of community coalitions to modify the community context through the policy process. The Alcohol Policy Academy includes 14 coalitions from across the U.S., with two individuals from each coalition serving as Academy participants. The Alcohol Policy Academy evaluation is designed to measure the effectiveness of increasing coalition capacity through the training and coaching of the policy process. Additionally, the evaluation will measure the increase in the policy training workforce through a mentee-to-coach development pipeline. The scope of the evaluation is limited to measuring the impact of the Alcohol Policy Academy curriculum on participants and coaches.

The evaluation comprises seven surveys and one focus group. Surveys are conducted after each monthly training and coaching call. The participant surveys seek feedback on changes in knowledge, skills, and confidence after each training and coaching call as well as feedback on the training content and training/coaching provider. The coach surveys track the progress of the coalitions. These surveys take the participants and coaches approximately 5-10 minutes each to complete. The participants also complete a baseline survey, a 12-month follow-up survey, and an 18-month follow-up survey. These surveys assess whether participants reach their own goals during the Alcohol Policy Academy, how they share their knowledge and skills gained, and how they continue to progress in the policy process. All surveys will be fielded using a web-based survey tool. The focus group within the cohort will collect qualitative data from the participants on their experience.

The table below indicates the estimated total annual burden on the participants and coaches of the Alcohol Policy Academy. The survey estimates include reading the instructions and questions and responding to each question. The focus group is scheduled for one hour and includes introductions, instructions, posing of questions, and open discussion.

The estimated annual response burden to collect this information is as follows:

Instrument | Number of respondents | Responses/ respondent | Total responses | Hours per response | Total hour burden | Wage rate | Total hour cost
Focus Group | 28 | 1 | 28 | 1 | 28 | $27.10 | $758.80
Participant Post-Coaching Call Survey | 28 | 10 | 280 | 0.125 | 35 | 27.10 | 948.50
Participant Post-Training Call Survey | 28 | 10 | 280 | 0.125 | 35 | 27.10 | 948.50
Coach Post-Coaching Call Survey | 3 | 70 | 210 | 0.17 | 35.7 | 50 | 1,785.00
Baseline | 28 | 1 | 28 | 0.67 | 18.76 | 27.10 | 508.40
Follow-Up | 28 | 1 | 28 | 1 | 28 | 27.10 | 758.80
Six-Month Follow-Up | 28 | 1 | 28 | 0.67 | 18.76 | 27.10 | 508.40

“Talk. They Hear You.”

The “Talk They Hear You” campaign comprises a variety of tools and resources designed to decrease underage drinking by encouraging families, parents and caregivers, educators, and community members/organizations to proactively engage youth in conversations about alcohol and other substances. Research has demonstrated that active and engaged adults can reduce underage drinking.¹

¹ Glenn, S.D., Turrisi, R., Mallett, K.A., Waldron, M.S., Lenker, L.K. (2024). Examination of brief parent-based interventions to reduce drinking outcomes on a nationally representative sample of teenagers. Journal of Adolescent Health, 74(3) 449-457. https://doi.org/10.1016/j.jadohealth.2023.09.010.

“Parents' Night Out” Materials Download Survey

The “Parents' Night Out” Materials Download Survey will facilitate the download of materials by interested organizations, including local coalitions, health departments, schools, and other community groups. The survey will ask questions relevant to providing training and technical assistance for implementation and contact information for automated delivery of the materials.

The estimated annual response burden to collect this information is as follows:

Instrument | Number of respondents | Responses/ respondent | Total responses | Hours per response | Total hour burden | Wage rate | Total hour cost
“Parents' Night Out” Materials Download Survey | 500 | 1 | 500 | 0.05 | 25 | $27.10 | $677.50

“Parents' Night Out” Evaluation

The “Parents' Night Out” Evaluation will assess changes in knowledge, skills, and confidence of parents and caregivers after receiving the training and materials from “Parents' Night Out” and “Talk. They Hear You.” products. This evaluation will be delivered in collaboration with community partners, who will be exposed to varying combinations of “Parents' Night Out” and materials to determine change before and after exposure. The information gleaned in surveys of participants and presenters of the sessions will allow the evaluation team to assess whether “Parents' Night Out” is being implemented as intended and which products are most useful in increasing parents' and caregivers' capacity and intentions. The results will be shared with the implementation team for “Parents' Night Out” curriculum modifications and for updating “Talk. They Hear You.” materials. Similarly, information collected regarding technical assistance from the Presenter Survey will be used to continuously improve the materials to best serve the needs of the users.

In addition to the ongoing Parents' Night Out evaluation, the Talk. They Hear You. team will conduct a series of four focus groups—two with parents and two with campaign partners—to gather feedback on campaign materials, messaging, and needs. Each group will include eight participants and be facilitated by two campaign evaluators. Parent groups will explore effective messaging strategies, preferred media channels, and desired resources. Partner groups will provide input on the usefulness of campaign materials and offer recommendations for training and technical assistance. Evaluators will analyze the discussions for key themes to inform ongoing campaign improvements. The table below indicates the estimated total annual burden on the participants and presenters of “Parents' Night Out,” and the focus group participants. The survey estimates include reading the instructions and questions and responding to each question.

The estimated annual response burden to collect this information is as follows:

Instrument | Number of respondents | Responses/ respondent | Total responses | Hours per response | Total hour burden | Wage rate | Total hour cost
“Parents' Night Out” Participant Survey | 1,000 | 1 | 1,000 | 0.12 | 120 | * $17.50 | $2,100.00
“Parents' Night Out” Presenter Survey | 200 | 1 | 200 | 0.08 | 16 | 27.10 | 433.60
Campaign Partner Evaluation Focus Groups | 16 | 1 | 16 | 1 | 16 | 27.10 | 433.60
Parent Evaluation Focus Group | 16 | 1 | 16 | 1 | 16 | * 17.50 | 280.00
* https://www.dol.gov/agencies/whd/minimum-wage/state.

Mobile App Parent Survey

The “Talk. They Hear You.” mobile app provides families, parents, and caregivers access to resources, conversation practice sessions, and Screen4Success. The mobile app's Parent Survey will be linked within the “Talk. They Hear You.” mobile app for parents and caregivers of youth ages 12-20 to complete. Parents and caregivers will be able to provide their insight on campaign materials, general demographic information, and details on their conversations with youth regarding underage drinking and substance use. This feedback will help the campaign team better serve parents and caregivers by tailoring resources to meet the age range of youth and parental areas of interest.

The estimated annual response burden to collect this information is as follows:

Instrument | Number of respondents | Responses/ respondent | Total responses | Hours per response | Total hour burden | Wage rate | Total hour cost
Mobile App Parent Survey | 200 | 1 | 200 | 0.12 | 24 | $17.50 * | $420.00
* https://www.dol.gov/agencies/whd/minimum-wage/state.

Mobile App Satisfaction Survey

The campaign team is interested in continuing deployment of the User Satisfaction Survey. The overall objective of the survey is to determine users' satisfaction with the app and if the user would like to see any changes made to the app. The survey will inform SAMHSA on how the mobile app resonates with the intended users and determine whether the mobile app is effective at conveying the importance of talking with kids early and often about underage drinking and other substances use through guided conversations. This survey will be available at the bottom of each page of the mobile app and promoted through in-app pop-up notifications.

The table below indicates the estimated total annual burden on the respondents of the survey. The survey estimates include reading and responding to each question, and totals 3 minutes. The wage rate was determined based on the highest state minimum wage, as respondent locations are not collected.

Instrument | Number of respondents | Responses/ respondent | Total responses | Hours per response | Total hour burden | Wage rate | Total hour cost
Mobile App Satisfaction Survey | 200 | 1 | 200 | 0.05 | 10 | $17.50 * | $175.00
* https://www.dol.gov/agencies/whd/minimum-wage/state.

Community Partner Newsletter Survey

The Newsletter Survey will be a brief survey designed for interested individuals to sign up to receive regular campaign communications via email. The newsletter is developed for organization members to engage with campaign materials, receive updates when new products are released, and participate in “Talk. They Hear You.” events. The newsletter also provides free pre-made social media content related to underage drinking prevention for organizations to share or customize.

The estimated annual response burden to collect this information is as follows:

Instrument | Number of respondents | Responses/ respondent | Total responses | Hours per response | Total hour burden | Wage rate | Total hour cost
Newsletter Survey | 240 | 1 | 240 | 0.05 | 12 | $17.50 * | $210.00
* https://www.dol.gov/agencies/whd/minimum-wage/state.

Community Partner License Survey

The License Survey is designed for organizations to register and partner with the “Talk. They Hear You.” campaign. In contrast to the Newsletter Survey, the License Survey is designed to be filled out once per organization. Partners will receive regular communication from the campaign outreach team and can access technical assistance as needed. Partners help facilitate the campaign at the local level by engaging their community, parents and caregivers, families, and educators. The campaign will highlight the work of partners periodically in the newsletters to share their successes and valuable efforts to disseminate “Talk. They Hear You.” products.

The estimated annual response burden to collect this information is as follows:

Instrument | Number of respondents | Responses/ respondent | Total responses | Hours per response | Total hour burden | Wage rate | Total hour cost
License Survey | 260 | 1 | 260 | 0.08 | 20.8 | $27.10 | $563.68

Community Partner Feedback Survey

The Partner Feedback Survey will provide an opportunity for partners to share feedback on community engagement meetings and evaluate how current community partners are engaging with “Talk. They Hear You.” Partners who attend the community engagement meetings will be asked to complete the survey after each quarterly meeting. The survey will gather both qualitative and quantitative evaluation data to be used for campaign refinement and to improve technical assistance to licensed partners. The data gathered through the Partner Feedback Survey will be used to continuously enhance the materials and community engagement provided by “Talk. They Hear You.”

The estimated annual response burden to collect this information is as follows:

Instrument | Number of respondents | Responses/ respondent | Total responses | Hours per response | Total hour burden | Wage rate | Total hour cost
Partner Feedback Survey | 86 | 1 | 86 | 0.17 | 14.62 | $27.10 | $396.20

Screen4Success

Screen4Success is designed for individuals and organizations to access free health, wellness, and well-being screening tools; collect consent/assent from parents and participants; navigate to local and national resources; and track referrals to services. Information collected at the consent of the participant will be shared with researchers to better inform prevention efforts and support services of the “Talk. They Hear You.” campaign. Additionally, organizations who use Screen4Success can utilize their aggregated, de-identified participant result data to inform local interventions, shape policy, and supplement applications to secure funding.

The estimated annual response burden to collect this information is as follows:

Instrument | Number of respondents | Responses/ respondent | Total responses | Hours per response | Total hour burden | Wage rate | Total hour cost
Pre-Screener | 1,000 | 1 | 1,000 | 0.08 | 80 | * $17.50 | $1,400.00
Screener | 1,000 | 1 | 1,000 | 0.3 | 300 | * 17.50 | 5,250.00
Parental Consent/Assent | 1,000 | 1 | 1,000 | 0.04 | 40 | * 17.50 | 700.00
Participant Consent/Assent | 1,000 | 1 | 1,000 | 0.04 | 40 | * 17.50 | 700.00
* https://www.dol.gov/agencies/whd/minimum-wage/state.

The two tables shown below detail the aggregate and combined total burden of the data collection activities listed above.

Combined Estimated Burden for Respondents
Instrument | Number of respondents | Responses/ respondent | Total responses | Hours per response | Total hour burden | Wage rate | Total hour cost
State Survey | 51 | 1 | 51 | 18.5 | 943.50 | $28.07 | $26,484.05
Focus Group | 28 | 1 | 28 | 1 | 28 | 27.10 | 758.80
Participant Post-Coaching Call Survey | 28 | 10 | 280 | 0.125 | 35 | 27.10 | 948.50
Participant Post-Training Call Survey | 28 | 10 | 280 | 0.125 | 35 | 27.10 | 948.50
Coach Post-Coaching Call Survey | 3 | 70 | 210 | 0.17 | 35.7 | 50 | 1,785.00
Baseline | 28 | 1 | 28 | 0.67 | 18.76 | 27.10 | 508.40
Follow-Up | 28 | 1 | 28 | 1 | 28 | 27.10 | 758.80
Six-Month Follow-Up | 28 | 1 | 28 | 0.67 | 18.76 | 27.10 | 508.40
“Parents' Night Out” Materials Download Survey | 500 | 1 | 500 | 0.05 | 25 | 27.10 | 677.50
“Parents' Night Out” Participant Survey | 1000 | 1 | 1000 | 0.12 | 120 | * 17.50 | 2,100.00
“Parents' Night Out” Presenter Survey | 200 | 1 | 200 | 0.08 | 16 | 27.10 | 433.60
Campaign Partner Evaluation Focus Groups | 16 | 1 | 16 | 1 | 16 | 27.10 | 433.60
Parent Evaluation Focus Group | 16 | 1 | 16 | 1 | 16 | * 17.50 | 280.00
Mobile App Parent Survey | 200 | 1 | 200 | 0.12 | 24 | * 17.50 | 420.00
Mobile App Satisfaction Survey | 200 | 1 | 200 | 0.05 | 10 | * 17.50 | 175.00
Newsletter Survey | 240 | 1 | 240 | 0.05 | 12 | * 17.50 | 210.00
License Survey | 260 | 1 | 260 | 0.08 | 20.8 | 27.10 | 563.68
Partner Feedback Survey | 86 | 1 | 86 | 0.17 | 14.62 | 27.10 | 396.20
Pre-Screener | 1,000 | 1 | 1,000 | 0.08 | 80 | * 17.50 | 1,400.00
Screener | 1,000 | 1 | 1,000 | 0.3 | 300 | * 17.50 | 5,250.00
Parental Consent/Assent | 1,000 | 1 | 1,000 | 0.04 | 40 | * 17.50 | 700.00
Participant Consent/Assent | 1,000 | 1 | 1,000 | 0.04 | 40 | * 17.50 | 700.00
* https://www.dol.gov/agencies/whd/minimum-wage/state.

Total Burden on Respondents for All Data Collection Tools
Instrument | Number of respondents | Responses/ respondent | Total responses | Hours per response | Total hour burden | Wage rate | Total hour cost
Total | 6,908 | 107 | 7,619 | 23.44 | 1,845.14 | $489.07 | $45,726.43

Send comments to SAMHSA Reports Clearance Officer, 5600 Fisher Lane, Room 15E57A, Rockville, MD 20852 OR email a copy at samhsapra@samhsa.hhs.gov. Written comments should be received by October 6, 2025.

Krishna Palipudi,
Social Science Analyst.

[FR Doc. 2025-14878 Filed 8-5-25; 8:45 am]

BILLING CODE 4162-20-P